Title 3—

The President

Proclamation 10947 of June 3, 2025

Adjusting Imports of Aluminum and Steel Into the United States

By the President of the United States of America

A Proclamation

1. On January 11, 2018, the Secretary of Commerce (Secretary) transmitted to me a report on the Secretary's investigation into the effect of imports of steel mill articles (steel articles) on the national security of the United States under section 232 of the Trade Expansion Act of 1962, as amended (19 U.S.C. 1862) (section 232). The Secretary found and advised me of his opinion that steel articles are being imported into the United States in such quantities and under such circumstances as to threaten to impair the national security of the United States.

2. In Proclamation 9705 of March 8, 2018 (Adjusting Imports of Steel Into the United States), and Proclamation 9980 of January 24, 2020 (Adjusting Imports of Derivative Aluminum Articles and Derivative Steel Articles Into the United States), I concurred with the Secretary's findings that steel articles, as defined in clause 1 of Proclamation 9705, and derivative steel articles, as described in clause 3 of Proclamation 9980, are being imported into the United States in such quantities and under such circumstances as to threaten to impair the national security of the United States, and I decided to adjust the imports of those steel articles and derivative steel articles by imposing a 25 percent ad valorem tariff on such articles imported from most countries. In Proclamation 10896 of February 10, 2025 (Adjusting Imports of Steel Into the United States), I decided to adjust the imports of steel articles and derivative steel articles by imposing a 25 percent ad valorem tariff on such articles imported from all countries.

3. On January 19, 2018, the Secretary transmitted to me a report on the Secretary's investigation into the effect of imports of aluminum articles on the national security of the United States under section 232. The Secretary found and advised me of his opinion that aluminum articles are being imported into the United States in such quantities and under such circumstances as to threaten to impair the national security of the United States.

4. In Proclamation 9704 of March 8, 2018 (Adjusting Imports of Aluminum Into the United States), and Proclamation 9980, I concurred with the Secretary's findings that aluminum articles, as defined in clause 1 of Proclamation 9704, and derivative aluminum articles, as described in clause 3 of Proclamation 9980, are being imported into the United States in such quantities and under such circumstances as to threaten to impair the national security of the United States, and decided to adjust the imports of aluminum articles and derivative aluminum articles by imposing a 10 percent ad valorem tariff on such articles imported from most countries. In Proclamation 10895 of February 10, 2025 (Adjusting Imports of Aluminum Into the United States), I decided to adjust the imports of aluminum articles and derivative aluminum articles by imposing a 25 percent ad valorem tariff on such articles imported from all countries.

5. In Proclamation 10896 and Proclamation 10895, I instructed the Secretary to continue to monitor imports of steel articles and derivative steel articles, and aluminum articles and derivative aluminum articles, respectively, and to review the status of such imports with respect to the national security of the United States. The Secretary has done so and has advised me accordingly.

6. After considering current information newly provided by the Secretary, among other things, I have determined that it is necessary to increase the previously described steel and aluminum tariffs to adjust the imports of steel and aluminum articles and their derivative articles so that such imports will not threaten to impair the national security. In my judgment, the increased tariffs will more effectively counter foreign countries that continue to offload low-priced, excess steel and aluminum in the United States market and thereby undercut the competitiveness of the United States steel and aluminum industries. Although the previously imposed steel and aluminum tariffs have helped provide critical price support in the United States market, they have not yet enabled these industries to develop and maintain the rates of capacity production utilization that are necessary for the industries' sustained health and for projected national defense needs. I have determined that increasing the previously imposed tariffs will provide greater support to these industries and reduce or eliminate the national security threat posed by imports of steel and aluminum articles and their derivative articles.

7. Accordingly, I have determined that it is necessary and appropriate to increase the tariff rate for imports of steel articles and derivative steel articles, and aluminum articles and derivative aluminum articles, from 25 percent ad valorem to 50 percent ad valorem effective as of 12:01 a.m. eastern daylight time on June 4, 2025. I have also determined that it is necessary and appropriate to modify the way in which the tariff measures described in Executive Order 14289 of April 29, 2025 (Addressing Certain Tariffs on Imported Articles), apply to steel articles and derivative steel articles, and aluminum articles and derivative aluminum articles, to ensure the effectiveness of the tariff changes described in this proclamation and the alignment of policy priorities between this proclamation and Executive Order 14289. I have further determined that it is necessary and appropriate to allow for the implementation of the U.S.-UK Economic Prosperity Deal of May 8, 2025 (EPD), and to accordingly provide different treatment, as described below, for imports of steel and aluminum articles, and their derivatives, from the United Kingdom.

8. Section 232 authorizes the President to adjust the imports of an article and its derivatives that are being imported into the United States in such quantities or under such circumstances as to threaten to impair the national security.

9. Section 604 of the Trade Act of 1974, as amended (19 U.S.C. 2483), authorizes the President to embody in the Harmonized Tariff Schedule of the United States (HTSUS) the substance of statutes affecting import treatment, and actions thereunder, including the removal, modification, continuance, or imposition of any rate of duty or other import restriction.

NOW, THEREFORE, I, DONALD J. TRUMP, President of the United States of America, by the authority vested in me by the Constitution and the laws of the United States of America, including section 232; the International Emergency Economic Powers Act (50 U.S.C. 1701 et seq.); section 301 of title 3, United States Code; and section 604 of the Trade Act of 1974, as amended, do hereby proclaim as follows:

(1) As set forth in Annexes I and II to this proclamation, as of 12:01 a.m. eastern daylight time on June 4, 2025, the tariffs proclaimed by Proclamation 9704, as amended; Proclamation 9705, as amended; Proclamation 9980, as amended; Proclamation 10895; and Proclamation 10896 are modified to increase the respective tariff rates from an additional 25 percent ad valorem to an additional 50 percent ad valorem.

(2) The modifications to the HTSUS made by clause 1 of this proclamation shall be effective with respect to goods entered for consumption, or withdrawn from warehouse for consumption, on or after 12:01 a.m. eastern daylight time on June 4, 2025, and shall continue in effect, unless such actions are expressly reduced, modified, or terminated.

(3) Any imports of articles set forth in Annex II to this proclamation that were admitted into a United States foreign trade zone under “privileged foreign status” as defined in 19 CFR 146.41 before 12:01 a.m. eastern daylight time on June 4, 2025, shall be subject upon entry for consumption made on or after 12:01 a.m. eastern daylight time on June 4, 2025, to the provisions of the tariff in effect at the time of the entry for consumption.

(4) Any article set forth in Annex I to this proclamation, except those eligible for admission under “domestic status” as defined in 19 CFR 146.43, that is subject to a duty imposed by this proclamation and that is admitted into a United States foreign trade zone on or after June 4, 2025, may be admitted only under “privileged foreign status” as defined in 19 CFR 146.41, and will be subject upon entry for consumption to any ad valorem rates of duty related to the classification under the applicable HTSUS subheading.

(5) Effective as of 12:01 a.m. eastern daylight time on June 4, 2025, Executive Order 14289 is amended by revising section 3(a)(ii) to read as follows: “(ii) An article subject to tariffs pursuant to the actions listed in section 2(d) or 2(e) of this order shall not be subject to additional tariffs on that article pursuant to the actions listed in section 2(b) or 2(c) of this order.” As set forth in Annex III of this proclamation, this amendment shall be effective with respect to goods entered for consumption, or withdrawn from warehouse for consumption, on or after 12:01 a.m. eastern daylight time on June 4, 2025, and shall continue in effect, unless such actions are expressly reduced, modified, or terminated.

(6) Notwithstanding any prior proclamation or Executive Order, the non-aluminum, non-steel content of all aluminum and steel articles and derivative articles shall be subject to tariffs pursuant to Executive Order 14257 of April 2, 2025 (Regulating Imports With a Reciprocal Tariff To Rectify Trade Practices That Contribute to Large and Persistent Annual United States Goods Trade Deficits), as amended, and any other applicable tariffs. The additional ad valorem duties described in clause 1 and clause 7 of this proclamation shall apply only to the steel content of articles in Chapter 73 of the HTSUS and only to the aluminum content of articles in Chapter 76 of the HTSUS. U.S. Customs and Border Protection (CBP) shall issue authoritative guidance mandating strict compliance with declaration requirements for steel and aluminum content in imported articles and outlining maximum penalties for noncompliance, including that importers who submit underreported declarations may be subject to severe consequences, including but not limited to significant monetary penalties, loss of import privileges, and criminal liability, consistent with United States law.

(7) Notwithstanding clause 1 of this proclamation, the applicable rates of duty for articles of the United Kingdom that would otherwise be applicable pursuant to Proclamation 9704, as amended; Proclamation 9705, as amended; Proclamation 9980, as amended; Proclamation 10895; and Proclamation 10896 shall remain at 25 percent ad valorem. On or after July 9, 2025, the Secretary may adjust the applicable rates of duty and construct import quotas for steel and aluminum consistent with the terms of the EPD, or he may increase the applicable rates of duty to 50 percent if he determines that the United Kingdom has not complied with relevant aspects of the EPD.

(8) The Secretary shall continue to monitor imports of the articles and derivative articles described in Annexes I and II to this proclamation, and shall, from time to time, in consultation with any senior executive branch officials the Secretary deems appropriate, review the status of such imports with respect to the national security of the United States. The Secretary shall inform the President of any circumstances that, in the Secretary's opinion, might indicate the need for further action by the President under section 232. The Secretary shall also inform the President of any circumstances that, in the Secretary's opinion, might indicate that the duty rate provided for in this proclamation, or any proclamation issued pursuant thereto, is no longer necessary.

(9) No drawback shall be available with respect to the duties imposed pursuant to this proclamation.

(10) The Secretary may issue regulations and guidance consistent with this proclamation, including to address operational necessity.

(11) The Secretary, in consultation with the United States International Trade Commission and CBP, shall determine whether any modifications to the HTSUS are necessary to effectuate this proclamation and may make such modifications through notice in the Federal Register if needed.

(12) CBP may take any necessary or appropriate measures to administer the tariffs imposed by this proclamation.

(13) Any provision of previous proclamations and Executive Orders that is inconsistent with the actions taken in this proclamation is superseded to the extent of such inconsistency.

IN WITNESS WHEREOF, I have hereunto set my hand this third day of June, in the year of our Lord two thousand twenty-five, and of the Independence of the United States of America the two hundred and forty-ninth.

Billing code 3395-F4-P

[FR Doc. 2025-10524

Filed 6-6-25; 8:45 am]

Billing code 7020-02-C